DEPARTMENT OF THE INTERIOR

Fish and Wildlife Service

Information Collection Renewal Submitted to the Office of Management and Budget (OMB) for Approval Under the Paperwork Reduction Act; OMB Control Number 1018-0066; Marine Mammal Marking, Tagging, and Reporting Certificates, 50 CFR 18.23(f)

AGENCY: Fish and Wildlife Service, Interior.

ACTION: Notice, request for comments.

SUMMARY: We, the Fish and Wildlife Service, have submitted the collection of information described below to OMB for approval under the provisions of the Paperwork Reduction Act of 1995. To obtain copies of specific information collection requirements, related forms, and explanatory materials, contact our Information Collection Clearance Officer at the address or phone number listed below.

DATES: You must submit comments on or before November 26, 2004.

ADDRESSES: Send your comments and suggestions on this information collection renewal to the Desk Officer for the Department of the Interior at OMB-OIRA at (202) 395-6566 (fax) or OIRA-DOCKET@OMB.eop.gov (e-mail). Please provide a copy of your comments to Hope Grey, Information Collection Clearance Officer, Fish and Wildlife Service, MS 222-ARLSQ, 4401 N. Fairfax Drive, Arlington, VA 22203 (mail); (703) 358-2269 (fax); or hope_grey@fws.gov (e-mail).

FOR FURTHER INFORMATION CONTACT: To request a copy of the information collection request, related forms, or explanatory information, contact Hope Grey by phone at (703) 358-2482 or by e-mail at hope_grey@fws.gov.

SUPPLEMENTARY INFORMATION: We have submitted a request to OMB to renew approval of information collection requirements for forms R7-50, R7-51, and R7-52 (Marine Mammal Marking, Tagging, and Reporting Certificates). Currently, we have approval from OMB to collect information under OMB control number 1018-0066. This approval expires on October 31, 2004. We may not conduct or sponsor, and a person is not required to respond to, a collection of information unless we display a currently valid OMB control number. OMB regulations at 5 CFR 1320, which implement provisions of the Paperwork Reduction Act of 1995 (44 U.S.C. 3501 et seq.), require that interested members of the public and affected agencies have an opportunity to comment on information collection and recordkeeping activities (see 5 CFR 1320.8(d)). Following our submittal, OMB has up to 60 days to approve or disapprove our information collection request; however, their response may be given as early as 30 days after our submittal. Therefore, to ensure your comments receive consideration, send your comments and suggestions to OMB by the date listed in the DATES section near the beginning of this notice.

On April 30, 2004, we published in the Federal Register (69 FR 23802) a 60-day notice of our intent to request renewal of information collection authority from OMB. In that notice, we solicited public comments for 60 days ending on June 29, 2004. We received two comments, both from the same individual, regarding this Federal Register notice. The comments expressed opposition to the collection of the information as described in the notice. Comments were based on the premise that the terminology is misleading and that the information provided to the Service is inaccurate. We note the concerns raised by this individual; however, we believe this collection of the information provides an important means to measure the legal subsistence harvest of polar bear, sea otter, and walrus and to improve the quality and quantity of harvest and biological data used in management decisions. In addition, we believe the information provided by the participants is accurate.

In October 1988, pursuant to provisions of section 109(i) of the Marine Mammal Protection Act (MMPA) of 1972, as amended (16 U.S.C. 1361-1407), we implemented formal marking, tagging, and reporting regulations at 50 CFR 18.23(f) for Alaska Natives harvesting polar bear, northern sea otter, and Pacific walrus in Alaska. Under section 101(b) of the MMPA, Alaska Natives residing in Alaska and dwelling on the coast of the North Pacific or Arctic Ocean may harvest these species for subsistence or handicraft purposes. Section 109(i) of the MMPA authorized us, acting on behalf of the Secretary of the Interior, to prescribe marking, tagging, and reporting regulations applicable to this Native subsistence and handicraft take.

Our regulations have enabled us to gather data on the Native subsistence and handicraft harvest and on the biology of polar bear, sea otter, and Pacific walrus in Alaska necessary to determine what effect such take is having on these populations. The regulations have also provided us with a means of monitoring the disposition of the harvest to ensure that any commercial use of products created from these species meets the criteria set forth in section 101(b) of the MMPA.

The information that we propose to continue to collect from Alaska Natives will be used to improve our decisionmaking ability by substantially expanding the quality and quantity of harvest and biological data upon which we can base future management decisions. It will provide us with the ability to make inferences about the condition and general health of these populations. Without authority to collect this harvest information, our ability to measure the take of polar bear, sea otter, and walrus is inadequate. We believe that mandatory marking, tagging, and reporting is essential for us, in concert with Alaska Natives, to be able to improve the quality and quantity of harvest and biological data necessary to base future management decisions. It allows us to make rational, knowledgeable decisions regarding the Native harvest.

We estimate that the annual burden associated with this request will be 639 hours for each year of the 3-year period of OMB authorization. We calculated this estimated burden based on previous experience suggesting that Alaska Natives annually take about 2,556 polar bears, sea otter, and Pacific walrus for subsistence and handicraft purposes, and that 15 minutes will be needed to provide the required information for each animal taken.

Title: Marine Mammal Marking, Tagging, and Reporting Certificates, 50 CFR 18.23(f).

OMB Control Number: 1018-0066.

Form numbers: R7-50, R7-51, and R7-52.

Frequency of collection: Occasional.

Description of respondents: Individuals and households.

Total annual responses: 2,556.

Total annual burden hours: 639 hours.

As with our 60-day notice, this notice invites your comments on: (1) Whether or not this collection of information is necessary for us to properly perform our functions, including whether or not this information will have practical utility; (2) the accuracy of our estimate of burden, including the validity of the methodology and assumptions we use; (3) ways to enhance the quality, utility, and clarity of the information we are proposing to collect; and (4) ways for us to minimize the burden of the collection of information on people who are to respond, including through the use of appropriate automated, electronic, mechanical, or other technological collection techniques or other forms of information technology.

Dated: October 5, 2004.
Hope Grey,
Information Collection Clearance Officer, Fish and Wildlife Service.

[FR Doc. 04-23988 Filed 10-26-04; 8:45 am]

BILLING CODE 4310-55-P